DEPARTMENT OF ENERGY

Federal Energy Regulatory Commission

Combined Notice of Filings #1

Take notice that the Commission received the following electric corporate filings:

Docket Numbers: EC17-24-000.

Applicants: Cimarron Bend Wind Project I, LLC, Cimarron Bend Assets, LLC.

Description: Supplement to November 2, 2016 Joint Application for Authorization Under Section 203 of the Federal Power Act for Cimarron Bend Wind Project I, LLC and Cimarron Bend Assets, LLC.

Filed Date: 12/2/16.

Accession Number: 20161202-5351.

Comments Due: 5 p.m. ET 12/12/16.

Docket Numbers: EC17-25-000.

Applicants: Lindahl Wind Project, LLC.

Description: Supplement to November 2, 2016 Joint Application for Authorization Under Section 203 of the Federal Power Act for Lindahl Wind Project, LLC.

Filed Date: 12/2/16.

Accession Number: 20161202-5349.

Comments Due: 5 p.m. ET 12/12/16.

Take notice that the Commission received the following electric rate filings:

Docket Numbers: ER10-2564-007; ER10-2600-007; ER10-2289-007.

Applicants: Tucson Electric Power Company, UNS Electric, Inc., UniSource Energy Development Company.

Description: Supplemental Workpapers to October 17, 2016 Notification of Changes in Status of Tucson Electric Power Company, et al.

Filed Date: 12/5/16.

Accession Number: 20161205-5292.

Comments Due: 5 p.m. ET 12/27/16.

Docket Numbers: ER10-2633-028; ER10-2570-028; ER10-2717-028; ER10-3140-028; ER13-55-018.

Applicants: Birchwood Power Partners, L.P., Shady Hills Power Company, L.L.C., EFS Parlin Holdings, LLC, Inland Empire Energy Center, LLC, Homer City Generations, L.P.

Description: Notice of Non-Material Change in Status of the GE Companies.

Filed Date: 12/5/16.

Accession Number: 20161205-5297.

Comments Due: 5 p.m. ET 12/27/16.

Docket Numbers: ER16-2720-000.

Applicants: NextEra Energy Transmission Southwest, LLC.

Description: Joint Partial Settlement Agreement of NextEra Energy Transmission Southwest, LLC on behalf of itself and the Kansas Corporation Commission.

Filed Date: 12/2/16.

Accession Number: 20161202-5322.

Comments Due: 5 p.m. ET 12/23/16.

Docket Numbers: ER17-104-001.

Applicants: Broadview Energy KW, LLC.

Description: Tariff Amendment: Supplement to Application for Market-Based Rate Tariff and Waivers to be effective 12/1/2016.

Filed Date: 12/5/16.

Accession Number: 20161205-5341.

Comments Due: 5 p.m. ET 12/27/16.

Docket Numbers: ER17-105-001.

Applicants: Broadview Energy JN, LLC.

Description: Tariff Amendment: Supplement to Application for Market-Based Rate Tariff and Waivers to be effective 12/1/2016.

Filed Date: 12/5/16.

Accession Number: 20161205-5343.

Comments Due: 5 p.m. ET 12/27/16.

Docket Numbers: ER17-311-000.

Applicants: SR South Loving LLC.

Description: Report Filing: Supplement to SR South Loving Market Based Rate Application to be effective N/A.

Filed Date: 12/2/16.

Accession Number: 20161202-5309.

Comments Due: 5 p.m. ET 12/12/16.

Docket Numbers: ER17-483-000.

Applicants: Southwest Power Pool, Inc.

Description: § 205(d) Rate Filing: 3280 Marshall Wind Energy and Westar Energy Meter Agent Agr to be effective 12/1/2016.

Filed Date: 12/5/16.

Accession Number: 20161205-5160.

Comments Due: 5 p.m. ET 12/27/16.

Docket Numbers: ER17-484-000.

Applicants: Midcontinent Independent System Operator, Inc., Northern States Power Company, a Minnesota corporation, Great River Energy.

Description: § 205(d) Rate Filing: 2016-12-05_SA 2960 Northern States Power-Great River Energy T-TIA (New Market) to be effective 9/29/2016.

Filed Date: 12/5/16.

Accession Number: 20161205-5259.

Comments Due: 5 p.m. ET 12/27/16.

Docket Numbers: ER17-485-000.

Applicants: PJM Interconnection, L.L.C.

Description: § 205(d) Rate Filing: Queue Position AB2-139, Original Service Agreement No. 4581 to be effective 11/4/2016.

Filed Date: 12/5/16.

Accession Number: 20161205-5260.

Comments Due: 5 p.m. ET 12/27/16.

Docket Numbers: ER17-486-000.

Applicants: Midcontinent Independent System Operator, Inc.

Description: § 205(d) Rate Filing: 2016-12-05_Revisions to Attachment TT Measurement and Verification Criteria to be effective 2/4/2017.

Filed Date: 12/5/16.

Accession Number: 20161205-5289.

Comments Due: 5 p.m. ET 12/27/16.

Docket Numbers: ER17-487-000.

Applicants: AEP Texas Central Company.

Description: § 205(d) Rate Filing: TCC-Rocksprings Val Verde Wind Interconnection Agreement to be effective 2/1/2016.

Filed Date: 12/5/16.

Accession Number: 20161205-5382.

Comments Due: 5 p.m. ET 12/27/16.

Docket Numbers: ER17-488-000.

Applicants: AEP Texas Central Company.

Description: § 205(d) Rate Filing: TCC-CPSB of San Antonio TX (CPS Energy) IA to be effective 11/15/2016.

Filed Date: 12/5/16.

Accession Number: 20161205-5384.

Comments Due: 5 p.m. ET 12/27/16.

Docket Numbers: ER17-489-000.

Applicants: Southwestern Electric Power Company.

Description: § 205(d) Rate Filing: AECC Avoca Delivery Point Agreement to be effective 11/7/2016.

Filed Date: 12/5/16.

Accession Number: 20161205-5387.

Comments Due: 5 p.m. ET 12/27/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2016.
Nathaniel J. Davis, Sr.,
Deputy Secretary.

[FR Doc. 2016-29785 Filed 12-12-16; 8:45 am]

BILLING CODE 6717-01-P